DEPARTMENT OF COMMERCE

National Oceanic and Atmospheric Administration

[RTID 0648-XB353]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Mackerel, Squid, and Butterfish Monitoring Committee will hold a public webinar meeting.

DATES: The meeting will be held on Tuesday, September 14, 2021, from 1 p.m. to 3 p.m. For agenda details, see SUPPLEMENTARY INFORMATION.

ADDRESSES: The meeting will be held via webinar. Information on how to connect to the webinar will be posted to https://www.mafmc.org/council-events/.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mackerel, Squid, and Butterfish Monitoring Committee will meet via webinar to discuss catch and landings limits and other management measures for Atlantic chub mackerel in 2022. The objectives of this meeting are for the Monitoring Committee to: (1) Review recent fishery performance and management measure recommendations from the Advisory Panel, the Scientific and Statistical Committee, and Council staff; (2) Review, and if appropriate, recommend changes to the previously implemented 2022 annual catch limit, annual catch target, total allowable landings limit, and other management measures. Meeting materials will be posted to www.mafmc.org.

Special Accommodations

The meeting is physically accessible to people with disabilities. Requests for sign language interpretation or other auxiliary aids should be directed to Shelley Kimbel-Spedden, (302) 526-52531, at least 5 days prior to the meeting date.

Authority: 16 U.S.C. 1801 et seq.

Dated: August 24, 2021.
Tracey L. Thompson,
Acting Deputy Director, Office of Sustainable Fisheries, National Marine Fisheries Service.

[FR Doc. 2021-18482 Filed 8-26-21; 8:45 am]

BILLING CODE 3510-22-P